DEPARTMENT OF VETERANS AFFAIRS

[OMB Control No. 2900-0764]

Agency Information Collection (Survey of Health Care Experiences Dental Patient Satisfaction Survey) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before October 14, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0764 (SURVEY OF HEALTHCARE EXPERIENCES DENTAL PATIENT SATISFACTION SURVEY) in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0764 (Survey of Health Care Experiences Dental Patient Satisfaction Survey) in any correspondence.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION: Titles:

1. Survey of Health Care Experiences Dental Patient Satisfaction Survey.

2. OMB Control Number: 2900-0764.

Type of Review: Extension of a currently approved collection.

Abstracts:

The mission of the Veterans Health Administration (VHA) is to provide high quality medical and dental care to eligible veterans. Executive Order 12862, dated September 11, 1993, calls for the establishment and implementation of customer service standards, and for agencies to “survey customers to determine the kind and quality of services they want and their level of satisfaction with current services”. At present, VA does not specifically evaluate patient satisfaction for over 400,000 veterans receiving dental services each year.

The Dental Patient satisfaction survey is comprised primarily of questions taken from two validated and extensively tested surveys. The first survey is the VA Nation-wide Customer Satisfaction Survey: Survey of Health Experience of Patients (SHEP); this has OMB approval under clearance number 2900-0712. The second survey, Dental Consumer Assessment of Healthcare Provider and Systems (DCAHPS), was developed by the Agency for Healthcare Research and Quality (AHRQ). The psychometric properties of this survey are well documented and the survey has been used extensively in measuring patient satisfaction for TRICARE dental services.

Affected Public: Individuals or households.

Estimated Annual Burden:

a. Survey of Health Care Experiences Dental Patient Satisfaction Survey, VA Form 10-10070—9,146 hours.

Estimated Average Burden per Respondent:

a. Survey of Health Care Experiences Dental Patient Satisfaction Survey, VA Form 10-10070—15 minutes.

Frequency of Response: Annually.

Estimated Annual Responses:

a. Survey of Health Care Experiences Dental Patient Satisfaction Survey, VA Form 10-10070—36,585.

By direction of the Secretary.
Kathleen M. Manwell,
Program Analyst, VA Privacy Service, Office of Privacy and Records Management, Department of Veterans Affairs.

[FR Doc. 2015-23025 Filed 9-11-15; 8:45 am]

BILLING CODE 8320-01-P